DEPARTMENT OF THE INTERIOR

Fish and Wildlife Service

50 CFR Part 17

[FXES1111090FEDR-267-FF09E21000]

Endangered and Threatened Wildlife and Plants; 90-Day Findings for 10 Species

AGENCY: Fish and Wildlife Service, Interior.

ACTION: Notification of petition findings and initiation of status reviews.

SUMMARY: We, the U.S. Fish and Wildlife Service (Service), announce 90-day findings on 10 petitions to add species to the Lists of Endangered and Threatened Wildlife and Plants under the Endangered Species Act of 1973, as amended (Act). Based on our review, we find that the petitions to list the Alvord chub (Siphateles alvordensis), Donner und Blitzen pebblesnail (Fluminicola insolitus), gray cat's-eye (Oreocarya leucophaea), Mount Pinos sooty grouse (Dendragapus fuliginosus howardi), mysterious lantern firefly (Photuris mysticalampas), Olympic marmot (Marmota olympus), San Joaquin tiger beetle (Cicindela tranquebarica joaquinensis), stippled studfish (Fundulus bifax), Wilson's phalarope (Phalaropus tricolor), and wonder caddisfly (Neothremma prolata) present substantial scientific or commercial information indicating that the petitioned actions may be warranted. Therefore, with the publication of this document, we announce that we are initiating status reviews of these species to determine whether the petitioned actions are warranted. To ensure that the status reviews are comprehensive, we request scientific and commercial data and other information regarding the species and factors that may affect their status. Based on the status reviews, we will issue 12-month petition findings, which will address whether or not the petitioned actions are warranted, in accordance with the Act.

DATES: These findings were made on January 26, 2026.

ADDRESSES:

Supporting documents: Summaries of the basis for the petition findings contained in this document are available on https://www.regulations.gov under the appropriate docket number (see tables under SUPPLEMENTARY INFORMATION). In addition, this supporting information is available by contacting the appropriate person, as specified in FOR FURTHER INFORMATION CONTACT.

Status reviews: If you have new scientific or commercial data or other information concerning the status of, or threats to, the Alvord chub, Donner und Blitzen pebblesnail, gray cat's-eye, Mount Pinos sooty grouse, mysterious lantern firefly, Olympic marmot, San Joaquin tiger beetle, stippled studfish, Wilson's phalarope, and wonder caddisfly, or their habitats, please provide those data or information by one of the following methods listed below.

(1) Electronically: Go to the Federal eRulemaking Portal: https://www.regulations.gov. In the Search box, enter the appropriate docket number (see table 1 under SUPPLEMENTARY INFORMATION). Then, click on the “Search” button. After finding the correct document, you may submit information by clicking on “Comment.”

(2) By hard copy: Submit by U.S. mail to: Public Comments Processing, Attn: [Insert appropriate docket number; see table 1 under SUPPLEMENTARY INFORMATION], U.S. Fish and Wildlife Service, MS: PRB/3W, 5275 Leesburg Pike, Falls Church, VA 22041-3803.

We request that you send information only by the methods described above. We will post all information we receive on https://www.regulations.gov. This generally means that we will post any personal information you provide us (see Information Submitted for a Status Review, below).

FOR FURTHER INFORMATION CONTACT:

Species common name | Contact person
Alvord chub, Donner und Blitzen pebblesnail, and wonder caddisfly | Jennifer Siani, Classification Coordinator, Oregon Fish and Wildlife Office, 503-231-6179, jennifer_siani@fws.gov.
Gray cat's-eye and Olympic marmot | Rebecca Migala, Classification Coordinator, Washington Fish and Wildlife Office, 360-997-8296, rebecca_migala@fws.gov.
Mount Pinos sooty grouse and San Joaquin tiger beetle | Kim Turner, Acting Field Supervisor, Sacramento Fish and Wildlife Office, 916-414-6700, kim_s_turner@fws.gov.
Mysterious lantern firefly | Julie Slacum, Division Chief, Chesapeake Bay Field Office, 410-215-0260, julie_thompson-slacum@fws.gov.
Stippled studfish | Jeff Powell, Deputy Field Supervisor, Alabama Ecological Services Field Office, 251-599-2014, jeff_powell@fws.gov.
Wilson's phalarope | Luke Toso, Acting Project Leader, North and South Dakota Field Office, 701-355-8528, luke_toso@fws.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Information Submitted for Status Reviews

If we find that a petition presents substantial scientific or commercial information indicating that the petitioned action may be warranted, the Act requires that we promptly commence a review of the status of the species, and we will subsequently complete a status review in accordance with our prioritization methodology for 12-month findings (81 FR 49248; July 27, 2016).

The Alvord chub, Donner und Blitzen pebblesnail, gray cat's-eye, Mount Pinos sooty grouse, mysterious lantern firefly, Olympic marmot, San Joaquin tiger beetle, stippled studfish, Wilson's phalarope, and wonder caddisfly will be assigned a bin number (in coordination with States and others with relevant information) according to our prioritization methodology and will be added to a future version of the National Listing Workplan (domestic species). The workplan provides transparency and predictability to the public about when the Service anticipates completing specific findings and actions while allowing for flexibility to update the workplan when new information changes the priorities. The National Listing Workplan is available at https://www.fws.gov/project/national-listing-workplan.

You may submit information concerning the status of, or threats to, the Alvord chub, Donner und Blitzen pebblesnail, gray cat's-eye, Mount Pinos sooty grouse, mysterious lantern firefly, Olympic marmot, San Joaquin tiger beetle, stippled studfish, Wilson's phalarope, and wonder caddisfly, or their habitats, to be considered during our status review of the species. We request that you send this information only by the methods described in ADDRESSES. Please include any supplemental data with your submission (such as scientific journal articles or other publications) to allow us to verify any scientific or commercial information you include. If you submit information via https://www.regulations.gov, your entire submission—including any personal identifying information—will be posted on the website.

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)). A positive 90-day petition finding does not indicate that the petitioned action is warranted; the finding indicates only that the petitioned action may be warranted and that a full review should occur.

The Act defines an “endangered species” as a species that is in danger of extinction throughout all or a significant portion of its range and a “threatened species” as a species that is likely to become an endangered species within the foreseeable future throughout all or a significant portion of its range. The Act requires that we determine whether any species is an endangered species or a threatened species because of any of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the species' expected response and the effects of the threats—in light of those actions and conditions that will ameliorate the threats—on an individual, population, and species level. We evaluate each threat and its expected effects on the species, then analyze the cumulative effect of the threats on the species as a whole. We also consider the cumulative effect of the threats in light of those actions and conditions that will have positive effects on the species, such as any existing regulatory mechanisms or conservation efforts. The Secretary determines whether the species meets the definition of an “endangered species” or a “threatened species” only after conducting this cumulative analysis and describing the expected effect on the species.

We note that designating critical habitat is not a petitionable action under the Act. Petitions to designate critical habitat (for species without existing critical habitat) are reviewed under the Administrative Procedure Act (5 U.S.C. 551 et seq.) and applicable Departmental regulations, and are not addressed in this finding (see 50 CFR 424.14(j)). To the maximum extent prudent and determinable, any proposed critical habitat will be addressed concurrently with a proposed rule to list a species, if applicable.

Summaries of Petition Findings

The petition findings contained in this document are listed in the table below, and the basis for each finding, along with supporting information, is available on https://www.regulations.gov under the appropriate docket number.

Table 1—Substantial Findings
Common name | Docket No. | URL to docket on https://www.regulations.gov
Alvord chub | FWS-R1-ES-2025-0006 | https://www.regulations.gov/docket/FWS-R1-ES-2025-0006.
Donner und Blitzen pebblesnail | FWS-R1-ES-2024-0173 | https://www.regulations.gov/docket/FWS-R1-ES-2024-0173.
Gray cat's-eye | FWS-R1-ES-2024-0170 | https://www.regulations.gov/docket/FWS-R1-ES-2024-0170.
Mount Pinos sooty grouse | FWS-R8-ES-2024-0175 | https://www.regulations.gov/docket/FWS-R8-ES-2024-0175.
Mysterious lantern firefly | FWS-R5-ES-2024-0178 | https://www.regulations.gov/docket/FWS-R5-ES-2024-0178.
Olympic marmot | FWS-R1-ES-2024-0171 | https://www.regulations.gov/docket/FWS-R1-ES-2024-0171.
San Joaquin tiger beetle | FWS-R8-ES-2025-0005 | https://www.regulations.gov/docket/FWS-R8-ES-2025-0005.
Stippled studfish | FWS-R4-ES-2025-0002 | https://www.regulations.gov/docket/FWS-R4-ES-2025-0002.
Wilson's phalarope | FWS-R6-ES-2024-0174 | https://www.regulations.gov/docket/FWS-R6-ES-2024-0174.
Wonder caddisfly | FWS-R1-ES-2024-0172 | https://www.regulations.gov/docket/FWS-R1-ES-2024-0172.

Evaluation of a Petition To List the Alvord Chub

Species and Range

Alvord chub; Alvord Basin in Harney County, Oregon and Humboldt County, Nevada.

Petition History

On August 29, 2024, we received a petition from the Center for Biological Diversity, requesting that the Alvord chub be listed as a threatened species or endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding the impacts of water withdrawals and diversions on the chub's habitat (Factor A), we find that the petition presents substantial scientific or commercial information indicating that listing the Alvord chub as a threatened or endangered species may be warranted. The petition also presented information suggesting livestock grazing, geothermal energy development, impoundments, predation and competition with nonnative species, climate change, impacts associated with small and fragmented populations, and inadequacy of existing regulatory mechanisms may be threats to the Alvord chub. We will fully evaluate these potential threats during our 12-month status review, pursuant to the Act's requirement to review the best scientific and commercial information available when making that finding.

The basis for our finding on this petition and other information regarding our review of the petition can be found at https://www.regulations.gov under Docket No. FWS-R1-ES-2025-0006 under the Supporting & Related Material section.

Evaluation of a Petition To List the Donner und Blitzen Pebblesnail

Species and Range

Donner und Blitzen pebblesnail; Page Springs in the Donner und Blitzen River drainage, Harney County, Oregon.

Petition History

On February 14, 2024, we received a petition from the Center for Biological Diversity, requesting that the Donner und Blitzen pebblesnail be listed as a threatened species or an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding the impacts of groundwater depletion on the pebblesnail's habitat (Factor A), we find that the petition presents substantial scientific or commercial information indicating that listing the Donner und Blitzen pebblesnail as a threatened or an endangered species may be warranted. The petition also presented information suggesting recreation, Bureau of Land Management activities, livestock grazing, climate change, drought, wildfire, water quality degradation, and invasive species may be threats to the Donner und Blitzen pebblesnail. We will fully evaluate these potential threats during our 12-month status review, pursuant to the Act's requirement to review the best scientific and commercial information available when making that finding.

The basis for our finding on this petition and other information regarding our review of the petition can be found at https://www.regulations.gov under Docket No. FWS-R1-ES-2024-0173 under the Supporting & Related Material section.

Evaluation of a Petition To List the Gray Cat's-Eye

Species and Range

Gray cat's-eye; south-central Washington.

Petition History

On May 2, 2024, we received a petition from the Center for Biological Diversity, requesting that gray cat's-eye be emergency listed as a threatened species or an endangered species and critical habitat be designated for this species under the Act. The petition clearly identified itself as such and included the requisite identification information for the petitioner, required at 50 CFR 424.14(c). Listing a species on an emergency basis is not a petitionable action under the Act, and the question of when to list on an emergency basis is left to the discretion of the Service. If the Service determines that the standard for emergency listing in section 4(b)(7) of the Act is met, the Service may exercise that discretion to take an emergency listing action at any time. Therefore, we are considering the May 2, 2024, petition as a petition to list the gray cat's-eye. This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding loss of sand dune habitat (Factor A), we find that the petition presents substantial scientific or commercial information indicating that listing the gray cat's-eye as a threatened or endangered species may be warranted. The petition also presented information suggesting exotic/noxious plant species, wildfire, off-highway vehicle usage, hydropower dams, grazing, seed predation, small population size, climate change, and loss of pollinators may be threats to the gray cat's-eye. We will fully evaluate these potential threats during our 12-month status review, pursuant to the Act's requirement to review the best scientific and commercial information available when making that finding.

The basis for our finding on this petition and other information regarding our review of the petition can be found at https://www.regulations.gov under Docket No. FWS-R1-ES-2024-0170 under the Supporting & Related Material section.

Evaluation of a Petition To List the Mount Pinos Sooty Grouse

Species and Range

Mount Pinos sooty grouse; Fresno, Tulare, Inyo, and Kern Counties, California.

Petition History

On June 26, 2024, we received a petition from the Center for Biological Diversity, requesting that the Mount Pinos sooty grouse be listed as a threatened species or an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding loss of forested habitat (Factor A), we find that the petition presents substantial scientific or commercial information indicating that listing the Mount Pinos sooty grouse as a threatened or endangered species may be warranted. The petition also presented information suggesting destruction and degradation of meadow habitat, livestock grazing, recreation, hunting, and climate change may be threats to the Mount Pinos sooty grouse. We will fully evaluate these potential threats during our 12-month status review, pursuant to the Act's requirement to review the best scientific and commercial information available when making that finding.

The basis for our finding on this petition and other information regarding our review of the petition can be found at https://www.regulations.gov under Docket No. FWS-R8-ES-2024-0175 under the Supporting & Related Material section.

Evaluation of a Petition To List the Mysterious Lantern Firefly

Species and Range

Mysterious lantern firefly; Delaware and Maryland.

Petition History

On March 28, 2023, we received a petition from The Xerces Society for Invertebrate Conservation, requesting that the mysterious lantern firefly be listed as an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding sea level rise (Factor E), we find that the petition presents substantial scientific or commercial information indicating that listing the mysterious lantern firefly as a threatened or endangered species may be warranted. The petition also presented information suggesting habitat loss and modification, overcollection, disease and predation, light pollution, pesticide use and other pollutants, loss of prey, reduced mating opportunities, and invasive species may be threats to the mysterious lantern firefly. We will fully evaluate these potential threats during our 12-month status review, pursuant to the Act's requirement to review the best scientific and commercial information available when making that finding.

The basis for our finding on this petition and other information regarding our review of the petition can be found at https://www.regulations.gov under Docket No. FWS-R5-ES-2024-0178 under the Supporting & Related Material section.

Evaluation of a Petition To List the Olympic Marmot

Species and Range

Olympic marmot; Olympic Peninsula, Washington.

Petition History

On May 13, 2024, we received a petition from the Center for Biological Diversity, requesting that the Olympic marmot be listed as a threatened species or an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat loss and fragmentation (Factor A) and predation by coyotes (Factor C), we find that the petition presents substantial scientific or commercial information indicating that listing the Olympic marmot as a threatened or an endangered species may be warranted. The petition also presented information suggesting wildfire may be a threat to the Olympic marmot. We will fully evaluate this potential threat during our 12-month status review, pursuant to the Act's requirement to review the best scientific and commercial information available when making that finding.

The basis for our finding on this petition and other information regarding our review of the petition can be found at https://www.regulations.gov under Docket No. FWS-R1-ES-2024-0171 under the Supporting & Related Material section.

Evaluation of a Petition To List the San Joaquin Tiger Beetle

Species and Range

San Joaquin tiger beetle; Madera, Tulare, Kings Counties, California.

Petition History

On December 9, 2024, we received a petition from the Center for Biological Diversity, requesting that the San Joaquin tiger beetle be listed as a threatened species or an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat loss associated with conversion to agriculture (Factor A), and regulatory mechanisms to address this potential threat (Factor D), we find that the petition presents substantial scientific or commercial information indicating that listing the San Joaquin tiger beetle as a threatened or an endangered species may be warranted. The petition also presented information suggesting livestock grazing, groundwater alteration, solar energy production, overcollection, predation, invasive plant encroachment, pesticides, effects of small population size, and climate change may be threats to the San Joaquin tiger beetle. We will fully evaluate these potential threats during our 12-month status review, pursuant to the Act's requirement to review the best scientific and commercial information available when making that finding.

The basis for our finding on this petition and other information regarding our review of the petition can be found at https://www.regulations.gov under Docket No. FWS-R8-ES-2025-0005 under the Supporting & Related Material section.

Evaluation of a Petition To List the Stippled Studfish

Species and Range

Stippled studfish; Tallapoosa River in Coosa, Elmore, Randolph, and Tallapoosa Counties, and one stream in the Coosa River basin immediately to the west in Elmore County, Alabama.

Petition History

On July 1, 2024, we received a petition from the Center for Biological Diversity requesting that the stippled studfish be listed as a threatened species or an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding habitat fragmentation (Factor A), we find that the petition presents substantial scientific or commercial information indicating that listing the stippled studfish as a threatened or an endangered species may be warranted. The petition also presented information suggesting pollution and sedimentation, pipelines, and increasing temperatures and drought may be threats to the stippled studfish. We will fully evaluate these potential threats during our 12-month status review, pursuant to the Act's requirement to review the best scientific and commercial information available when making that finding.

The basis for our finding on this petition and other information regarding our review of the petition can be found at https://www.regulations.gov under Docket No. FWS-R4-ES-2025-0002 under the Supporting & Related Material section.

Evaluation of a Petition To List the Wilson's Phalarope

Species and Range

Wilson's phalarope; Alaska, Arizona, Arkansas, California, Colorado, Idaho, Kansas, Massachusetts, Michigan, Minnesota, Mississippi, Missouri, Montana, Nebraska, New Mexico, New York, Nevada, North Dakota, Ohio, Oklahoma, Oregon, South Dakota, Texas, Utah, Washington, Wisconsin, and Wyoming in the United States; Argentina; Belize; Bolivia; Brazil; Canada; Chile; Ecuador; Guatemala; Honduras; Mexico; Nicaragua; Peru; and Uruguay.

Petition History

On March 28, 2024, we received a petition from the Center for Biological Diversity; Ryan Carle; Terry Tempest Williams; Benjamin W. Abbot, Ph.D.; Ron Larson, Ph.D.; Nathan D. Van Schmidt, Ph.D.; Utah Physicians for a Healthy Environment; Utah Youth Environmental Solutions; Mono Lake Committee; and Kyriana Tarr requesting that Wilson's phalarope be listed as a threatened species and to concurrently designate critical habitat under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding freshwater diversion leading to declines in prey resources at primary fall staging habitats in California, Oregon, and Utah, (Factor A) and regulatory mechanisms to reduce this potential threat (Factor D), we find that the petition presents substantial scientific or commercial information indicating that listing the Wilson's phalarope as a threatened or endangered species may be warranted. The petition also presented information suggesting that wintering habitat loss from lithium mining, general habitat loss under climate change, and reduced salinity following wetland restoration projects may be threats to Wilson's phalarope. We will fully evaluate these potential threats during our 12-month status review, pursuant to the Act's requirement to review the best scientific and commercial information available when making that finding.

The basis for our finding on this petition and other information regarding our review of the petition can be found at https://www.regulations.gov under Docket No. FWS-R6-ES-2024-0174 under the Supporting & Related Material section.

Evaluation of a Petition To List the Wonder Caddisfly

Species and Range

Wonder caddisfly; Wonder Creek, Hood River County, Oregon.

Petition History

On February 12, 2024, we received a petition from the Center for Biological Diversity requesting that the wonder caddisfly be listed as an endangered species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding the impacts of powerline corridor maintenance to the caddisfly's habitat (Factor A) and regulatory mechanisms to address this potential threat (Factor D), we find that the petition presents substantial scientific or commercial information indicating that listing the wonder caddisfly as an endangered species may be warranted. The petition also presented information suggesting road and trail construction and runoff, timber harvest, recreation, drought, wildfire, and climate change may be threats to the wonder caddisfly. We will fully evaluate these potential threats during our 12-month status review, pursuant to the Act's requirement to review the best scientific and commercial information available when making that finding.

The basis for our finding on this petition and other information regarding our review of the petition can be found at https://www.regulations.gov under Docket No. FWS-R1-ES-2024-0172 under the Supporting & Related Material section.

Conclusion

On the basis of our evaluation of the information presented in the petitions under section 4(b)(3)(A) of the Act, we have determined that the petitions summarized above for the Alvord chub, Donner und Blitzen pebblesnail, gray cat's-eye, Mount Pinos sooty grouse, mysterious lantern firefly, Olympic marmot, San Joaquin tiger beetle, stippled studfish, Wilson's phalarope, and wonder caddisfly present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species.

Authority

The authority for these actions is the Endangered Species Act of 1973, as amended (16 U.S.C. 1531 et seq.).

Brian R. Nesvik,
Director, U.S. Fish and Wildlife Service.

[FR Doc. 2026-01414 Filed 1-23-26; 8:45 am]

BILLING CODE 4333-15-P